PRIVACY AND CIVIL LIBERTIES OVERSIGHT BOARD

[Notice-PCLOB-2025-01; Docket No. 2025-0002; Sequence No. 13]

Privacy and Civil Liberties Oversight Board Public Forum

AGENCY: U.S. Privacy and Civil Liberties Oversight Board (PCLOB).

ACTION: Notice.

SUMMARY: The Privacy and Civil Liberties Oversight Board will hold a virtual public forum on Tuesday, December 2nd to discuss how financial tools historically used by the government to fight terrorism may now be impacting Americans' privacy and civil liberties. The forum will be held from 11:00 a.m. to 12:30 p.m. Eastern Daylight Time (EDT). No registration is required to view this event, which will be livestreamed at www.pclob.gov. More information about this online forum will be posted at www.pclob.gov as it becomes available. The Board seeks public comments both in advance of and following the forum to help inform the discussion and future Board deliberations.

DATES: This event will be held from 11:00 a.m. to 12:30 p.m., EDT, on December 2nd, 2025. Public comments may be submitted any time prior to the closing of the docket at 11:59 p.m. EDT on Friday, December 12th, 2025.

ADDRESSES: You may submit comments responsive to notice PCLOB-2025-01 via http://www.regulations.gov. Please search by Notice PCLOB-2025-01 and follow the on-line instructions for submitting comments. Responsive comments received generally will be posted without change to regulations.gov, including any personal and/or business confidential information provided. To confirm receipt of your comment(s), please check regulations.gov approximately two-to-three business days after submission to verify posting.

FOR FURTHER INFORMATION CONTACT: Alan Silverleib, Director of Legislative and Public Affairs, Privacy and Civil Liberties Oversight Board, at 202-997-7719 and via email at pao@pclob.gov.

SUPPLEMENTARY INFORMATION:

Background

The federal government has significant authority to combat terrorism through financial services regulation. In some cases, the two-way flow of information between financial institutions and the government enables intelligence analyses that can be used to identify, disrupt, and prosecute terrorist networks. But some have argued that the growth of government power in this area has extended beyond terrorism and has permitted unreasonable risks to privacy and civil liberties.

By holding this forum, PCLOB will hear from experts about how the current regulatory system functions from both a national security and privacy and civil liberties perspective. Specifically, the forum will examine concerns raised by Members of Congress, businesses, and civil liberties advocates that due to anti-money laundering and other regulatory requirements, as well as vague regulatory supervision standards such as “reputational risk,” financial institutions may be encouraged to engage in the practice of debanking/de-risking, which may deny banking services to innocent individuals, groups, and organizations.

PCLOB invites input from all stakeholders including members of the public, representing a variety of backgrounds and perspectives. If a comment is submitted on behalf of an organization, the individual respondent's role in the organization may also be provided on a voluntary basis. While PCLOB currently lacks a quorum, the agency is using this forum and the comments received to understand and scope potential future oversight.

Alan Silverleib,
Legislative and Public Affairs Director, Privacy and Civil Liberties Oversight Board.

[FR Doc. 2025-19897 Filed 11-14-25; 8:45 am]

BILLING CODE 6820-B3-P